DEPARTMENT OF LABOR

Employment and Training Administration

[NAFTA-06536]

Wisconsin Automated Machinery Corp., Oshkosh, WI; Notice of Termination of Investigation

Pursuant to Title V of the North American Free Trade Agreement Implementation Act (Pub. L. 103-182) concerning transitional adjustment assistance, hereinafter called (NAFTA-TAA), and in accordance with Section 250(a), Subchapter D, Chapter 2, Title II, of the Trade Act of 1974, as amended (19 U.S.C. 2273), an investigation was initiated on September 9, 2002, in response to a petition filed by the International Association of Machinists and Aerospace Workers Union, District #10 and a company official on behalf of workers at Wisconsin Automated Machinery Corporation, Oshkosh, Wisconsin.

The petitioners have requested that the petition be withdrawn. Consequently, further investigation in this case would serve no purpose and the investigation has been terminated.

Signed at Washington, DC, this 10th day of October 2002.
Elliott S. Kushner,
Certifying Officer, Division of Trade Adjustment Assistance.

[FR Doc. 02-28390 Filed 11-6-02; 8:45 am]

BILLING CODE 4510-30-P